ENVIRONMENTAL PROTECTION AGENCY

[FRL-7583-6]

Toolkit for Assessing Potential Allegations of Environmental Injustice

AGENCY: Environmental Protection Agency (EPA).

ACTION: Public comment period.

SUMMARY: The Office of Environmental Justice seeks public comment on the draft “Toolkit for Assessing Potential Allegations of Environmental Injustice.” The toolkit provides tools and other reference materials to assist U.S. Environmental Protection Agency (EPA) personnel in assessing allegations of environmental injustice. Also, the document provides a framework for understanding national policy on the subject of environmental justice.

DATES: Written comments must be received by EPA on or before March 4, 2004.

ADDRESSES: Comments should be addressed to Mr. Barry E. Hill, Director, Office of Environmental Justice, U.S. Environmental Protection Agency, 1200 Pennsylvania Avenue, NW., Mailcode 2201A, Ariel Rios South Building, Room 2232, Washington, DC 20460-0001.

FOR FURTHER INFORMATION CONTACT: Marla Hendriksson, Senior Program Analyst, EPA Office of Environmental Justice, (202) 564-1897 or hendriksson.marla@epa.gov.

SUPPLEMENTARY INFORMATION: The “Toolkit for Assessing Potential Allegations of Environmental Injustice” is available online at: http://www.epa.gov/compliance/recent/ej.html. A hardcopy of this document is available upon request.

Dated: October 31, 2003.
Barry E. Hill,
Director, Office of Environmental Justice.

[FR Doc. 03-27851 Filed 11-4-03; 8:45 am]

BILLING CODE 6560-50-P